ENVIRONMENTAL PROTECTION AGENCY

[FRL-12304-01-R8]

Clean Air Act Operating Permit Program; Order on Petition for Objection to State Operating Permit for HighPoint Operating Corporation's Anschutz Equus Farms 4-62-28 NWNW Oil and Gas Production Facility

AGENCY: Environmental Protection Agency (EPA).

ACTION: Notice of final order on petition.

SUMMARY: The Environmental Protection Agency (EPA) Administrator signed an order dated July 31, 2024, granting in part and denying in part a petition dated April 1, 2024, from the Center for Biological Diversity. The petition requested that the EPA object to a Clean Air Act (CAA) operating permit issued by the Colorado Department of Public Health and Environment's Air Pollution Control Division (Division) to HighPoint Operating Corporation for its Anschutz Equus Farms 4-62-28 NWNW oil and gas production facility located in Weld County, Colorado.

FOR FURTHER INFORMATION CONTACT: Julie Merkel, EPA Region 8, telephone number: (406) 457-5042, email address: merkel.julie@epa.gov. The final order and petition are available electronically at: https://www.epa.gov/title-v-operating-permits/title-v-petition-database.

SUPPLEMENTARY INFORMATION: The EPA received a petition from the Center for Biological Diversity dated April 1, 2024, requesting that the EPA object to the issuance of operating permit no. 20OPWE423, issued by the Division to HighPoint Operating Corporation for the Anschutz Equus Farms 4-62-28 NWNW oil and gas production facility in Weld County, Colorado. On July 31, 2024, the EPA Administrator issued an order granting in part and denying in part the petition. The order itself explains the basis for the EPA's decision.

Sections 307(b) and 505(b)(2) of the CAA provide that a petitioner may request judicial review of those portions of an order that deny issues in a petition. Any petition for review shall be filed in the United States Court of Appeals for the 10th circuit no later than December 17, 2024.

Dated: October 9, 2024.
KC Becker,
Regional Administrator, Region 8.

[FR Doc. 2024-24179 Filed 10-17-24; 8:45 am]

BILLING CODE 6560-50-P